DEPARTMENT OF HEALTH AND HUMAN SERVICES

National Institutes of Health

Center for Scientific Review; Amended Notice of Meeting

Notice is hereby given of a change in the meeting of the Cardiac Contractility, Hypertrophy, and Failure Study Section, June 12, 2008, 8 a.m. to June 13, 2008, 12 p.m., The Westin St. Francis, 335 Powell Street, San Francisco, CA, 94102 which was published in the Federal Register on April 22, 2008, 73 FR 21636-21639.

The meeting will be held one day only June 12, 2008, from 8 a.m. to 7 p.m. The meeting location remains the same. The meeting is closed to the public.

Dated: April 24, 2008.
Jennifer Spaeth,
Director, Office of Federal Advisory Committee Policy.

[FR Doc. E8-9561 Filed 5-1-08; 8:45 am]

BILLING CODE 4140-01-M